DEPARTMENT OF ENERGY

Federal Energy Regulatory Commission

[Project No. 8498-018]

Lois Von Morganroth; Shiloh Warm Springs Ranch, LLC; Notice of Application for Transfer of License, and Soliciting Comments and Motions To Intervene

On April 29, 2013, Lois Von Morganroth (transferor) and Shiloh Warm Springs Ranch, LLC (transferee) filed an application for the transfer of license for the L & M Angus Ranch Project, FERC No. 8498, located on Warm Springs Creek, a tributary to the Salmon River in Custer County, Idaho.

Applicants seek Commission approval to transfer the license for the L & M Angus Ranch Project from the transferor to the transferee.

Applicants' Contact: For Transferor: Ms. Lois Von Morganroth, 1223 Montana Avenue, Santa Monica, CA 90403, telephone (310) 451-8531. For Transferee: Mr. Christopher W. James, Shiloh Warm Springs Ranch, LLC, P.O. Box 510, Challis, ID 83226-0510, telephone (208) 879-4560 and Rekha K. Rao, Esq., Duncan, Weinberg, Genzer, and Pembroke, P.C., 1615 M Street NW., Suite 800, Washington, DC 20036, telephone (202) 467-6370.

FERC Contact: Patricia W. Gillis (202) 502-8735, patricia.gillis@ferc.gov.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-8498) in the docket number field to access the document. For assistance, call toll-free 1-866-208-3372.

Dated: May 30, 2013.
Kimberly D. Bose,
Secretary.

[FR Doc. 2013-13394 Filed 6-5-13; 8:45 am]

BILLING CODE 6717-01-P